Title 3—

The President

Proclamation 8679 of May 20, 2011

National Hurricane Preparedness Week, 2011

By the President of the United States of America

A Proclamation

National Hurricane Preparedness Week highlights the importance of planning ahead to protect our families and secure our communities and homes in advance of the upcoming hurricane season.

Hurricanes are powerful storms that can create severe flooding, dangerous storm surges, high winds, and tornadoes. The effects of these storms can be devastating to entire communities and can have long-lasting consequences, including loss of life and property. In addition to threatening coastal areas, hurricanes significantly impact inland locations. Our Nation has seen devastating hurricanes and storms, and we must not let our guard down as we prepare for this year’s hurricane season. With tens of millions of Americans living in coastal communities, preparation can enhance our ability to respond to and recover from any natural disaster we might face.

Our Nation’s weather forecasters at the National Oceanic and Atmospheric Administration’s National Hurricane Center continue to improve the accuracy of their hurricane forecasts. However, we cannot prevent a hurricane from making landfall, and awareness of the threat is not enough—we must translate this knowledge into action, and work together to develop prepared and resilient communities. My Administration recognizes that we must move from a government-centric approach to disaster management to a community-oriented approach that includes all levels of government, the private sector, volunteers, community and faith-based organizations, and the public. A whole community effort is needed to effectively prepare for, protect against, respond to, recover from, and mitigate against any disaster.

During National Hurricane Preparedness Week, we emphasize the need for individuals, businesses, nonprofits, and families to prepare emergency plans, create emergency supply kits, and learn evacuation routes. More information on hurricane hazards and details on how to secure buildings and belongings is available at www.Hurricanes.gov/Prepare and www.Ready.gov.

America has seen the heartbreak a hurricane can leave behind. By working together, government, private and nonprofit organizations, emergency responders, and private citizens can help save lives and reduce the damage caused by these storms.

NOW, THEREFORE, I, BARACK OBAMA, President of the United States of America, by virtue of the authority vested in me by the Constitution and the laws of the United States, do hereby proclaim May 22 through May 28, 2011, as National Hurricane Preparedness Week. I call upon government agencies, private organizations, schools, media, and residents in the coastal areas of our Nation to share information about hurricane preparedness and response to help save lives and protect communities.

IN WITNESS WHEREOF, I have hereunto set my hand this twentieth day of May, in the year of our Lord two thousand eleven, and of the Independence of the United States of America the two hundred and thirty-fifth.

[FR Doc. 2011-13166

Filed 5-24-11; 11:15 am]

Billing code 3195-W1-P